DEPARTMENT OF COMMERCE

National Oceanic and Atmospheric Administration

[RTID 0648-XV150]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day in-person meeting of its Standing, Reef Fish, Socioeconomic and Coral Scientific and Statistical Committees (SSC).

DATES: The meeting will convene on Thursday, January 9, 2020, from 9 a.m. to 4 p.m., EST.

ADDRESSES: The meeting will take place at the Gulf Council office.

Council address: Gulf of Mexico Fishery Management Council, 4107 W Spruce Street, Suite 200, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION:

Thursday, January 9, 2020; 9 a.m.-4 p.m.

The meeting will begin with introductions, adoption of agenda, and approval of minutes from the September 2019 meeting and October 2019 webinar; along with a review of the Scope of Work and selection of an SSC Representative to attend the January Council meeting in New Orleans, LA. The Committees will receive a presentation on the Florida Keys National Marine Sanctuary Expansion; an overview of Coral and Shrimp SSC recommendations on Draft Environment Impact Statement (DEIS); and, review other Coral SSC Recommendations.

Following lunch, the Committees will review an updated analysis of Lane Snapper with Marine Recreational Information Program-Fishing Effort Survey (MRIP-FES) Data including Overfishing Limits (OFL) and Acceptable Biological Catch (ABC) recommendations, and SEDAR 61: Gulf Red Grouper Projections with MRIP-FES revised allocations and projections. The National Marine Fisheries Service will review Standardized Economic Reports for the Gulf of Mexico Reef Fish and Mackerel Fisheries; and, there will be a discussion of a Joint Gulf and South Atlantic SSC Meeting in May 2020.

Lastly, the Committees will discuss any Other Business items.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: December 17, 2019.
Tracey L. Thompson,
Acting Deputy Director, Office of Sustainable Fisheries, National Marine Fisheries Service.

[FR Doc. 2019-27537 Filed 12-19-19; 8:45 am]

BILLING CODE 3510-22-P